DEPARTMENT OF AGRICULTURE

Agricultural Marketing Service

7 CFR Part 56

[Docket No. PY-98-006]

RIN 0581-AC50

Eligibility Requirements for USDA Graded Shell Eggs

AGENCY: Agricultural Marketing Service, USDA.

ACTION: Final rule; correction.

SUMMARY: The Agricultural Marketing Service published in the Federal Register on April 19, 2006, a document regarding Voluntary Shell Egg Grading regulations. The final rule provides that shell eggs must not have been previously shipped for retail sale in order to be officially identified with a USDA consumer grademark and changes the definition of the term eggs of current production from 30 days to 21 days, thereby making eggs that were laid more than 21 days before the date packing ineligible to be officially identified with a USDA-consumer grademark. In that document, a number appearing in one of the columns in Table 1 was typed incorrectly. This document corrects that error.

DATES: Effective on May 4, 2006.

FOR FURTHER INFORMATION CONTACT: Charles L. Johnson, Chief, Grading Branch, (202) 720-3271.

SUPPLEMENTARY INFORMATION: The Agricultural Marketing Service published a document in the Federal Register on April 19, 2006 (71 FR 20288) amending regulations pertaining to Voluntary Grading of Shell Eggs. In that document, FR Doc. 06-3693, the number appearing in the Estimated value, Total value column should read 899,100, not 899,10. Therefore, in the Federal Register dated April 19, 2006, (71 FR 20288), in Table 1, under the heading Estimated value, in the Total value column “899,10” is corrected to read “899,100”.

Dated: April 28, 2006.
Lloyd C. Day,
Administrator, Agricultural Marketing Service.

[FR Doc. 06-4176 Filed 5-3-06; 8:45 am]

BILLING CODE 3410-02-P